DEPARTMENT OF COMMERCE

International Trade Administration

[A-821-833]

Oil Country Tubular Goods From the Russian Federation: Final Affirmative Determination of Sales at Less Than Fair Value, and Final Affirmative Critical Circumstances Determination, in Part

AGENCY: Enforcement and Compliance, International Trade Administration, Department of Commerce.

SUMMARY: The U.S. Department of Commerce (Commerce) determines that imports of oil country tubular goods (OCTG) from the Russian Federation (Russia) are being, or are likely to be, sold in the United States at less than fair value (LTFV) for the period of investigation (POI) October 1, 2020, through September 30, 2021.

DATES: Applicable September 29, 2022.

FOR FURTHER INFORMATION CONTACT: George McMahon or Mike Heaney, AD/CVD Operations, Office VI, Enforcement and Compliance, International Trade Administration, U.S. Department of Commerce, 1401 Constitution Avenue NW, Washington, DC 20230; telephone: (202) 482-1167 or (202) 482-4475, respectively.

SUPPLEMENTARY INFORMATION:

Background

On May 11, 2022, Commerce published in the Federal Register the preliminary affirmative determination in the LTFV investigation of OCTG from Russia, in which it also postponed the final determination until September 23, 2022.¹ We invited interested parties to comment on the Preliminary Determination. A summary of the events that occurred since Commerce published the Preliminary Determination may be found in the Issues and Decision Memorandum.²

¹ See Oil Country Tubular Goods from the Russian Federation: Preliminary Affirmative Determination of Sales at Less Than Fair Value, Preliminary Negative Critical Circumstances Determination, Postponement of Final Determination, and Extension of Provisional Measures, 87 FR 28804 (May 11, 2022) (Preliminary Determination), and accompanying Preliminary Decision Memorandum.

² See Memorandum, “Issues and Decision Memorandum for the Final Affirmative Determination in the Less-Than-Fair-Value Investigation of Oil Country Tubular Goods from the Russian Federation,” dated concurrently with, and hereby adopted by, this notice (Issues and Decision Memorandum).

Scope of the Investigation

The product covered by this investigation is OCTG from Russia. For a complete description of the scope of this investigation, see appendix I.

Analysis of Comments Received

All the issues raised in the case and rebuttal briefs that were submitted by parties in this investigation are addressed in the Issues and Decision Memorandum. A list of the issues addressed in the Issues and Decision Memorandum is attached to this notice as appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Verification

Commerce was unable to conduct on-site verification of the information relied upon in making its final determination in this investigation for reasons beyond its control. However, we conducted virtual verifications in lieu of an on-site verification to verify the information relied upon in making this final determination with respect to JSC Vyksa Steel Works (OMK/VSW), in accordance with section 782(i) of the Tariff Act of 1930, as amended (the Act).³ Specifically, Commerce conducted virtual verifications of OMK/VSW's information and data on home market sales, U.S. sales, and cost of production.

³ See Commerce's Letter, “Less-Than-Fair-Value Investigation of Oil Country Tubular Goods from the Russian Federation: Verification of the Home Market and U.S. Sales Questionnaire Response of JSC Vyksa Steel Works and OMK Tube,” dated July 15, 2022; see also Commerce's Letter, “Verification of the Cost Response of Vyksa Steel Works in the Less-Than-Fair-Value Investigation of Oil Country Tubular Goods from the Russian Federation,” dated July 8, 2022. Commerce did not issue a similar request for documentation from the mandatory respondent, Volzhsky Pipe Plant, Joint Stock Company (VTZ), because VTZ withdrew its participation in this investigation subsequent to the Preliminary Determination. See VTZ/TMK's Letter, “Antidumping Investigation of Oil Country Tubular Goods from Russia—VTZ and TMK Notice of Withdrawal from the Investigation,” dated May 27, 2022.

Changes Since the Preliminary Determination

Based on our analysis of the comments received, we have made certain changes to the margin calculations for OMK/VSW, and we applied a margin based on adverse facts available for Volzhsky Pipe Plant, Joint Stock Company (TMK/VTZ). For a discussion of these changes, see the Issues and Decision Memorandum.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act (i.e., facts otherwise available).

Commerce calculated an individual estimated weighted-average dumping margin for OMK/VSW and assigned a rate based entirely on facts available to TMK/VTZ, the two respondents selected for individual examination in this investigation. Because the only individually calculated dumping margin that is not zero, de minimis, or based entirely on facts otherwise available, is the estimated weighted-average dumping margin calculated for OMK/VSW, we have assigned the margin calculated for OMK/VSW to all other producers and exporters, pursuant to section 735(c)(5)(A) of the Act.

Final Affirmative Determination of Critical Circumstances, in Part

In accordance with section 735(a)(3) of the Act and 19 CFR 351.206(h), we find that critical circumstances exist for certain companies in Russia. For a full description of the methodology and results of Commerce's critical circumstances analysis, see the “Final Affirmative Determination of Critical Circumstances, in Part” section of the Issues and Decision Memorandum.

Final Determination

The final estimated weighted-average dumping margins are as follows:

Exporter or producer | Estimated weighted-average dumping margin (percent) | Cash deposit rate (adjusted for subsidy offset(s)) (percent) ⁴
JSC Vyksa Steel Works | 12.84 | 12.53
Volzhsky Pipe Plant, Joint Stock Company/Public Joint-Stock Company Trubnaya Metallurgicheskaya Kompaniya/Sinarsky Pipe Plant, Joint Stock Company/Seversky Pipe Plant, Joint Stock Company/Taganrog Metallurgical Plant, Joint Stock Company/Pervouralsk Pipe Plant, Joint Stock Company/Chelyabinsk Pipe Plant, Joint Stock Company/Orsky Machine Building Plant, Joint Stock Company ⁵ | * 184.21 | * 184.21
All Others | 12.84 | 12.70
* Adverse Facts Available (AFA).

Disclosure

We intend to disclose the calculations and analysis performed to interested parties in this final determination within five days of any public announcement or, if there is no public announcement, within five days of the date of publication of this notice in accordance with 19 CFR 351.224(b).

⁴ See Memoranda, “Less-Than-Fair-Value Investigation of Oil Country Tubular Goods from the Russian Federation: Final Determination Analysis Memorandum for JSC Vyksa Steel Works,” dated concurrently with this memorandum; and “Less-Than-Fair-Value Investigation of Oil Country Tubular Goods from the Russian Federation: Final Determination Calculation for the All-Others,” dated concurrently with this memorandum.

⁵ Commerce preliminarily determined that Volzhsky Pipe Plant, Joint Stock Company; Public Joint-Stock Company Trubnaya Metallurgicheskaya Kompaniya; Sinarsky Pipe Plant, Joint Stock Company; Seversky Pipe Plant, Joint Stock Company; Taganrog Metallurgical Plant, Joint Stock Company; Pervouralsk Pipe Plant, Joint Stock Company; Chelyabinsk Pipe Plant, Joint Stock Company; Orsky Machine Building Plant, Joint Stock Company are affiliated within the meaning of 771(33)(F) of the Act, and should be treated as a single entity, in accordance with 19 CFR 351.401(f). See Preliminary Determination; see also Memorandum, “Less-Than-Fair-Value Investigation of Oil Country Tubular Goods from Russia: Preliminary Affiliation and Collapsing Memorandum for Volzhsky Pipe Plant,” dated May 4, 2022. Commerce received no comments regarding the determination of affiliation among these companies. Accordingly, Commerce continues to find these companies are affiliated and continues to treat these companies as a single entity.

Continuation of Suspension of Liquidation

In accordance with section 735(c)(1)(B) of the Act, Commerce will instruct U.S. Customs and Border Protection (CBP) to continue to suspend the liquidation of all appropriate entries of subject merchandise, as described in appendix I of this notice, entered, or withdrawn from warehouse, for consumption on or after May 11, 2022, the date of publication in the Federal Register of the affirmative Preliminary Determination.

Section 735(c)(4)(B) of the Act provides that if there is an affirmative final determination of critical circumstances following a negative preliminary determination of critical circumstances, suspension of liquidation shall apply to unliquidated entries of subject merchandise entered, or withdrawn from warehouse, for consumption on or after the date which is 90 days before the date on which the suspension of liquidation was first ordered. As noted above, Commerce finds that critical circumstances exist for imports of subject merchandise produced and/or exported by TMK/VTZ. Therefore, in accordance with section 735(c)(4)(B) of the Act, suspension of liquidation shall apply to unliquidated entries of subject merchandise produced or exported by TMK/VTZ that were entered, or withdrawn from warehouse, for consumption on or after the date which is 90 days before the date of publication of the Preliminary Determination in the Federal Register. These suspension of liquidation instructions will remain in effect until further notice.

Pursuant to section 735(c)(1)(B)(ii) of the Act and 19 CFR 351.210(d), we will instruct CBP to require a cash deposit for estimated antidumping duties for such entries as follows: (1) the cash deposit rate for the companies listed above will be equal to the company-specific estimated weighted-average dumping margins determined in this final determination; (2) if the exporter is not a company identified above, but the producer is identified above, then the cash deposit rate will be equal to the company-specific estimated weighted-average dumping margin established for that producer of the subject merchandise; and (3) the cash deposit rate for all other producers and exporters will be equal to the all-others estimated weighted-average dumping margin.

U.S. International Trade Commission Notification

In accordance with section 735(d) of the Act, we will notify the U.S. International Trade Commission (ITC) of the final affirmative determination of sales at LTFV. Because Commerce's final determination is affirmative, in accordance with section 735(b)(2) of the Act, the ITC will make its final determination as to whether the domestic industry in the United States is materially injured, or threatened with material injury, by reason of imports or sales (or the likelihood of sales) for importation of OCTG no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order

This notice will serve as a final reminder to the parties subject to an administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and this notice are issued and published pursuant to sections 735(d) and 777(i)(1) of the Act, and 19 CFR 351.210(c).

Dated: September 23, 2022.
Lisa W. Wang,
Assistant Secretary for Enforcement and Compliance.

Appendix I

Scope of the Investigation

The merchandise covered by this investigation is certain OCTG, which are hollow steel products of circular cross-section, including oil well casing and tubing, of iron (other than case iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of this investigation also covers OCTG coupling stock.

Subject merchandise includes material matching the above description that has been finished, packaged, or otherwise processed in a third country, including by performing any heat treatment, cutting, upsetting, threading, coupling, or any other finishing, packaging, or processing that would not otherwise remove the merchandise from the scope of the investigation if performed in the country of manufacture of the OCTG.

Excluded from the scope of the investigation are: casing, tubing, or coupling stock containing 10.5 percent or more by weight of chromium; drill pipe; unattached couplings; and unattached thread protectors.

The merchandise subject to this investigation is currently classified in the Harmonized Tariff Schedule of the United States (HTSUS) under item numbers: 7304.29.1010, 7304.29.1020, 7304.29.1030, 7304.29.1040, 7304.29.1050, 7304.29.1060, 7304.29.1080, 7304.29.2010, 7304.29.2020, 7304.29.2030, 7304.29.2040, 7304.29.2050, 7304.29.2060, 7304.29.2080, 7304.29.3110, 7304.29.3120, 7304.29.3130, 7304.29.3140, 7304.29.3150, 7304.29.3160, 7304.29.3180, 7304.29.4110, 7304.29.4120, 7304.29.4130, 7304.29.4140, 7304.29.4150, 7304.29.4160, 7304.29.4180, 7304.29.5015, 7304.29.5030, 7304.29.5045, 7304.29.5060, 7304.29.5075, 7304.29.6115, 7304.29.6130, 7304.29.6145, 7304.29.6160, 7304.29.6175, 7305.20.2000, 7305.20.4000, 7305.20.6000, 7305.20.8000, 7306.29.1030, 7306.29.1090, 7306.29.2000, 7306.29.3100, 7306.29.4100, 7306.29.6010, 7306.29.6050, 7306.29.8110, and 7306.29.8150.

The merchandise subject to this investigation may also enter under the following HTSUS item numbers: 7304.39.0024, 7304.39.0028, 7304.39.0032, 7304.39.0036, 7304.39.0040, 7304.39.0044, 7304.39.0048, 7304.39.0052, 7304.39.0056, 7304.39.0062, 7304.39.0068, 7304.39.0072, 7304.39.0076, 7304.39.0080, 7304.59.6000, 7304.59.8015, 7304.59.8020, 7304.59.8025, 7304.59.8030, 7304.59.8035, 7304.59.8040, 7304.59.8045, 7304.59.8050, 7304.59.8055, 7304.59.8060, 7304.59.8065, 7304.59.8070, 7304.59.8080, 7305.31.4000, 7305.31.6090, 7306.30.5055, 7306.30.5090, 7306.50.5050, and 7306.50.5070.

The HTSUS subheadings and specifications above are provided for convenience and customs purposes only. The written description of the scope of this investigation is dispositive.

Appendix II

List of Topics Discussed in the Issues and Decision Memorandum

I. Summary

II. Background

III. Scope of the Investigation

IV. Changes Since the Preliminary Determination

V. Final Determinations of Affiliation and Single Entity Treatment

VI. Application of Facts Available and Use of Adverse Inferences

VII. Final Affirmative Determination of Critical Circumstances in Part

VIII. Discussion of the Issues

Comment 1: OMK/VSW's Cost Reporting

Comment 2: Retention of TMK/VTZ's Business Proprietary Information (BPI) on the Record of the Investigation

Comment 3: TMK/VTZ Adverse Facts Available (AFA) Margin and Critical Circumstances Determination

IX. Recommendation

[FR Doc. 2022-21182 Filed 9-28-22; 8:45 am]

BILLING CODE 3510-DS-P